DEPARTMENT OF EDUCATION

[Docket No.: ED-2024-SCC-0033]

Agency Information Collection Activities; Submission to the Office of Management and Budget for Review and Approval; Comment Request; National Teacher and Principal Survey of 2023-2024 (NTPS 2023-24) Data Collection

AGENCY: National Center for Education Statistics (NCES), Department of Education (ED).

ACTION: Notice.

SUMMARY: In accordance with the Paperwork Reduction Act (PRA) of 1995, the Department is proposing a revision of a currently approved information collection request (ICR).

DATES: Interested persons are invited to submit comments on or before April 1, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Carrie Clarady, 202-245-6347.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: National Teacher and Principal Survey of 2023-2024 (NTPS 2023-24) Data Collection.

OMB Control Number: 1850-0598.

Type of Review: A revision of a currently approved ICR.

Respondents/Affected Public: Individuals and Households.

Total Estimated Number of Annual Responses: 108,478.

Total Estimated Number of Annual Burden Hours: 52,757.

Abstract: The National Teacher and Principal Survey (NTPS), conducted every three years by the National Center for Education Statistics (NCES), is a system of related questionnaires that provides descriptive data on the context of elementary and secondary education. Redesigned from the Schools and Staffing Survey (SASS) with a focus on flexibility, timeliness, and integration with other ED data, the NTPS system allows for school, principal, and teacher characteristics to be analyzed in relation to one another. NTPS is an in-depth, nationally representative survey of first through twelfth grade public and private school teachers, principals, and schools. Kindergarten teachers in schools with at least a first grade are also surveyed. NTPS utilizes core content and a series of rotating modules to allow timely collection of important education trends as well as trend analysis. Topics covered include characteristics of teachers, principals, schools, teacher training opportunities, retention, retirement, hiring, and shortages.

The NTPS serves as the base year for two follow-up collections: The Principal Follow-up Survey (PFS) contacts principals who responded to the previous year's NTPS collection to determine whether, one year later, they are working as a principal at the same school as the previous year (“stayers”), have moved to a different school (“movers”), or have left the profession (“leavers”). The Teacher Follow-up Survey (TFS) contacts a sample of teachers who responded to the previous year's NTPS collection in order to determine whether they are stayers, movers, or leavers, as well as additional questions about their career paths and employment experiences. (TFS and PFS are cleared as part of a separate package under OMB #1850-0617. The package for TFS/PFS 2024-25 will be cleared in 2024.)

For the 2021-22 and earlier TFS collections, our primary source of information on whether a teacher was a stayer, mover, or leaver (before we sampled and directly contacted those teachers) came from the school at which they worked during the previous year. However, not all schools report that information and, among those that do, they may not know the job status of the prior year's teachers. In order to determine whether that information can be collected more accurate and efficiently, we plan to ask NTPS teachers, at the end of the 2023-24 school year, whether they believe they will return to the same school in the 2024-25 school year. If their responses align with the information we later collect from schools and/or teachers who complete the TFS, we may be able to use this information to sample teachers for future administrations of the TFS.

For NTPS teachers who complete the NTPS Teacher Questionnaire web survey, on or after April 15, 2024, we will ask this question as the final item in the survey. For NTPS teachers who complete the survey before April 15, 2024 or who complete a paper questionnaire, we will send them an email invitation asking them to answer this additional question and, if needed, update their contact information. Teachers will only be asked this question once, but we have provided sample questions that reflect the two different ways in which the question may be asked. We estimate that this question will add 1 additional minute of burden for teachers from whom it is part of NTPS Teacher Questionnaire web survey, and 3 minutes for teachers who answer this item through a standalone web survey.

As part of this change, we have updated the estimated burden for teachers to complete the NTPS with the addition of this question in Part A. We have added the text of this question, shown here and in Appendix B, and the accompanying email for teachers who are sent a separate email invitation here and in Appendix A.

Dated: February 23, 2024.
Stephanie Valentine,
PRA Coordinator, Strategic Collections and Clearance Governance and Strategy Division, Office of Chief Data Officer, Office of Planning, Evaluation and Policy Development.

[FR Doc. 2024-04159 Filed 2-28-24; 8:45 am]

BILLING CODE 4000-01-P